DEPARTMENT OF TRANSPORTATION

Federal Aviation Administration

High Density Airports; Notice of Reagan National Airport Lottery Allocation Procedures

AGENCY: Federal Aviation Administration.

ACTION: Notice of lottery and allocation procedures for slots at Washington Reagan National Airport.

SUMMARY: This notice announces a lottery to allocate a limited number of commuter slots at Washington's Reagan National Airport in accordance with Title 14 of the Code of Federal Regulations § 93.225, Lottery of available slots.

date/location of lottery: The lottery will be held in the Federal Aviation Administration, Conference Room 9 ABC, 800 Independence Avenue, SW., Washington, DC 20591 on December 3, 2004, beginning at 11:30 a.m. Carriers that wish to participate in the lottery must notify, in writing, the FAA Slot Administration Office, Attention: AGC-220, 800 Independence Avenue, SW., Washington, DC 20591, or by facsimile to (202) 267-7277. Notification must be received no later than 5 p.m. e.d.t. on November 18, 2004.

FOR FURTHER INFORMATION CONTACT: Lorelei Peter, Operations and Air Traffic Law Branch, Regulations Division, Office of the Chief Counsel, Federal Aviation Administration, 800 Independence Avenue, SW., Washington, DC 20591; telephone number (202) 267-3134.

SUPPLEMENTARY INFORMATION:

Background

The High Density Traffic Airports Rule, or “High Density Rule,” 14 CFR part 93, subpart K, was promulgated in 1968 to reduce delays at five congested airports: John F. Kennedy International Airport (JFK), LaGuardia, O'Hare International Airport (O'Hare), Ronald Reagan Washington National Airport (Reagan National) and Newark International Airport (33 FR 17896; December 3, 1968). The regulation limits the number of instrument flight rule (IFR) operations at each airport, during certain hours of the day. It provides for the allocation to carriers of operational authority, in the form of a “slot” for each IFR takeoff or landing during a specific 30- or 60-minute period. The restrictions at Newark were lifted in the early 1970s. The restrictions at O'Hare were lifted in July 2002.

Slots during peak hours and not required for Essential Air Service are allocated by lottery. (See CFR 93.225.) the FAA will follow the lottery procedures of 14 CFR § 93.225 and certain special procedures described further in this notice will also apply.

A limited incumbent carrier is now defined as a carrier with fewer than 20 slots and slot exemptions. (49 U.S.C. 41714(h)(5)(A)) (The regulatory definition of a limited incumbent carrier was amended by the above statutory provision.) Also, section 426 of Vision 100—Century of Aviation Reauthorization Act amended the definition of commuter aircraft in 14 CFR 93.123(c)(2), as applied to aircraft operations at Washington's Reagan National Airport, to mean aircraft operations using aircraft having a certificated maximum seating capacity of 76 or less.

The commuter slots available during the lottery previously were allocated to carriers to provide Essential Air Service and subsequently withdrawn by the FAA for nonuse. (Under 14 CFR 93.227, if slots are not used 80 percent of the time over a two-month reporting period, the slots will be withdrawn.)

A total of six daily commuter slots are available during this lottery. One commuter slot is available in each the 0700 and 0900 hours and two commuter slots are available in each the 1400 and 1900 hours.

Special Procedures

By Order 2004-9-22 issued September 23, 2004, the Office of the Secretary of Transportation directed the FAA to hold a slot lottery for six available commuter slots at Reagan National that had been reserved for Essential Air Service for Clarksburg, Morgantown, and/ or Lewisburg, West Virginia, subject to the conditions described in the order. In summary, the Order provides that the slots may be used to provide service to points other than the above West Virginia communities unless a carrier subsequently requests slots to serve the Reagan National-Clarksburg, Morgantown, and/or Lewisburg markets with specific dates a viable proposal. Under that scenario, the Office of the Secretary would review the proposal and then direct the FAA to recall the reserved Essential Air Service slots that had been allocated by this lottery. The complete text of the Order is available via the Internet at http://dms.dot.gov in Docket OST-2003-15886.

Issued on November 10, 2004 in Washington, DC.
James Whitlow,
Deputy Chief Counsel.

[FR Doc. 04-25451 Filed 11-16-04; 8:45 am]

BILLING CODE 4910-13-M